DEPARTMENT OF THE TREASURY

Financial Crimes Enforcement Network

Agency Information Collection Activities; Proposed Collection; Comment Request; Report of International Transportation of Currency or Monetary Instruments

AGENCY: Financial Crimes Enforcement Network (FinCEN), Treasury.

ACTION: Notice and request for comments regarding the renewal without change of the Report of International Transportation of Currency or Monetary Instruments (CMIR).

SUMMARY: As part of our continuing effort to reduce paperwork and respondent burden, FinCEN invites the general public and other Federal agencies to comment on an information collection requirement concerning the CMIR. This request for comment is being made pursuant to the Paperwork Reduction Act of 1995 (PRA), Public Law 10 U.S.C. 3506(c)(2)(A)).

DATES: Written comments should be received on or before May 18, 2012 to be assured of consideration.

ADDRESSES: Direct all written comments to: Regulatory Policy and Programs Division, Financial Crimes Enforcement Network, Department of the Treasury, P.O. Box 39, Vienna, VA 22183-0039, Attention: PRA Comments—Report of International Transportation of Currency or Monetary Instruments. Comments also may be submitted by electronic mail to the following Internet address: “regcomments@fincen.gov” with the caption in the body of the text, “Attention: PRA Comments—Report of International Transportation of Currency or Monetary Instruments.”

Inspection of comments: Comments may be inspected, between 10 a.m. and 4 p.m., in the FinCEN reading room in Vienna, VA. Persons wishing to inspect the comments submitted must request an appointment with the Disclosure Officer by telephoning (703) 905-5034 (Not a toll free call).

FOR FURTHER INFORMATION CONTACT: The FinCEN Regulatory Helpline at 800-949-2732, select option 6. A copy of the form may also be obtained from the FinCEN Web site at http://www.fincen.gov/forms/files/fin105_cmir.pdf.

SUPPLEMENTARY INFORMATION: Title: Report of International Transportation of Currency or Monetary Instruments (CMIR).

Office of Management and Budget Number (OMB): 1506-0014.

Form Number: FinCEN Form 105.

Abstract: FinCEN exercises regulatory functions primarily under the Currency and Financial Transactions Reporting Act of 1970, as amended by the USA PATRIOT Act of 2001 and other legislation. This legislative framework is commonly referred to as the “Bank Secrecy Act” (“BSA”).¹ The Secretary of the Treasury has delegated to the Director of FinCEN the authority to implement, administer and enforce compliance with the BSA and associated regulations.² Pursuant to this authority, FinCEN may issue regulations requiring financial institutions to keep records and file reports that “have a high degree of usefulness in criminal, tax, or regulatory investigations or proceedings, or in the conduct of intelligence or counterintelligence activities, including analysis, to protect against international terrorism.” ³ Additionally, FinCEN is authorized to impose regulations to maintain procedures to ensure compliance with the BSA and FinCEN's implementing regulations, or to guard against money laundering, which includes imposing anti-money laundering (“AML”) program requirements on financial institutions.⁴

¹ The BSA is codified at 12 U.S.C. 1829b, 12 U.S.C. 1951-1959, 31 U.S.C. 5311-5314 and 5316-5332 and notes thereto, with implementing regulations at 31 CFR chapter X. See 31 CFR 1010.100(e).

² Treasury Order 180-01 (Sept. 26, 2002).

³ 31 U.S.C. 5311.

⁴ 31 U.S.C. 5318(a) and (h).

Pursuant to the BSA, the requirement of 31 U.S.C. 5316(a) has been implemented through regulations promulgated at 31 CFR 1010.340 and through the instructions for the CMIR as follows:

(1) Each person who physically transports, mails, or ships, or causes to be physically transported, mailed, or shipped currency or other monetary instruments in an aggregate amount exceeding $10,000 at one time from the United States to any place outside the United States or into the United States from any place outside the United States, and

(2) Each person who receives in the United States currency or other monetary instruments in an aggregate amount exceeding $10,000 at one time which have been transported, mailed, or shipped to the person from any place outside the United States. A transfer of funds through normal banking procedures, which does not involve the physical transportation of currency or monetary instruments, is not required to be reported on the CMIR.

Information collected on the CMIR is made available, in accordance with strict safeguards, to appropriate criminal law enforcement and regulatory personnel in the official performance of their duties. The information collected is of use in investigations involving international and domestic money laundering, tax evasion, fraud, and other financial crimes.

Current Actions: Renewal without change.⁵

⁵ On October 17, 2011, FinCEN published an NPRM (See 76 FR 64049) requesting comments on the proposed change to the definition of “monetary instrument” in the BSA. The comment period closed December 16, 2011. FinCEN received 14 comments in response (See http://www.regulations.gov/ and search on RIN 1506-AB13). Any changes resulting from this NPRM will be the subject of a subsequent notice.

Type of Review: Renewal of a currently approved collection.

Affected Public: Individuals, business or other for-profit institutions, and not-for-profit institutions.

Estimated Number of Respondents: 280,000.

Estimated Time per Respondent: 30 minutes.

Estimated Total Annual Burden Hours: 140,000 hours.

An agency may not conduct or sponsor, and a person is not required to respond to, a collection of information unless the collection of information displays a valid OMB control number. Records required to be retained under the BSA must be retained for five years. Generally, information collected pursuant to the BSA is confidential, but may be shared as provided by law with regulatory and law enforcement authorities.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: February 13, 2012.
James H. Freis, Jr.,
Director, Financial Crimes Enforcement Network.

[FR Doc. 2012-6477 Filed 3-16-12; 8:45 am]

BILLING CODE 4810-02-P